ENVIRONMENTAL PROTECTION AGENCY

40 CFR Part 52

[EPA-R03-OAR-2021-0380; FRL-9288-02-R3]

Approval and Promulgation of Air Quality Implementation Plans; Pennsylvania; Reasonably Available Control Technology Determinations for Case-by-Case Sources Under the 1997 and 2008 8-Hour Ozone National Ambient Air Quality Standards

AGENCY: Environmental Protection Agency (EPA).

ACTION: Final rule.

SUMMARY: The Environmental Protection Agency (EPA) is approving multiple state implementation plan (SIP) revisions submitted by the Commonwealth of Pennsylvania. These revisions were submitted by the Pennsylvania Department of Environmental Protection (PADEP) to establish and require reasonably available control technology (RACT) for 24 major volatile organic compound (VOC) and/or nitrogen oxide (NOX) emitting facilities pursuant to the Commonwealth of Pennsylvania's conditionally approved RACT regulations. In this rule action, EPA is approving source-specific (also referred to as case-by-case or CbC) RACT determinations or alternative NOX emissions limits for sources at 24 major NOX and VOC emitting facilities within the Commonwealth submitted by PADEP. These RACT evaluations were submitted to meet RACT requirements for the 1997 and 2008 8-hour ozone national ambient air quality standards (NAAQS). EPA is approving these revisions to the Pennsylvania SIP in accordance with the requirements of the Clean Air Act (CAA) and EPA's implementing regulations.

DATES: This final rule is effective on February 23, 2022.

ADDRESSES: EPA has established a docket for this action under Docket ID Number EPA-R03-OAR-2021-0380. All documents in the docket are listed on the https://www.regulations.gov website. Although listed in the index, some information is not publicly available, e.g., confidential business information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Mr. Riley Burger, Permits Branch (3AD10), Air & Radiation Division, U.S. Environmental Protection Agency, Region III, 1650 Arch Street, Philadelphia, Pennsylvania 19103. The telephone number is (215) 814-2217. Mr. Burger can also be reached via electronic mail at burger.riley@epa.gov.

SUPPLEMENTARY INFORMATION:

I. Background

On August 2, 2021, EPA published a notice of proposed rulemaking (NPRM). 86 FR 41426. In the NPRM, EPA proposed approval of case-by-case RACT determinations or alternative NOX emissions limits for sources at 24 facilities, as EPA found that the RACT controls for these sources met the CAA RACT requirements for the 1997 and 2008 8-hour ozone NAAQS. These case-by-case RACT determinations or alternative NOX emissions limits for sources at these facilities were included in PADEP's May 7, 2020 SIP submission on. As indicated in the NPRM, EPA views each facility as a separable SIP revision.

Under certain circumstances, states are required to submit SIP revisions to address RACT requirements for both major sources of NOX and VOC and any source covered by control technique guidelines (CTG), for each ozone NAAQS. Which NOX and VOC sources in Pennsylvania are considered “major,” and are therefore subject to RACT, is dependent on the location of each source within the Commonwealth. Sources located in nonattainment areas would be subject to the “major source” definitions established under the CAA based on the area's current classification(s). In Pennsylvania, sources located in any ozone nonattainment areas outside of moderate or above are subject to source thresholds of 50 tons per year (tpy) because of the Ozone Transport Region (OTR) requirements in CAA section 184(b)(2).

On May 16, 2016, PADEP submitted a SIP revision addressing RACT for both the 1997 and 2008 8-hour ozone NAAQS in Pennsylvania. PADEP's May 16, 2016 SIP revision intended to address certain outstanding non-CTG VOC RACT, VOC CTG RACT, and major source VOC and NOX RACT requirements for both standards. The SIP revision requested approval of Pennsylvania's 25 Pa. Code 129.96-100, Additional RACT Requirements for Major Sources of NOX and VOCs (the “presumptive” RACT II rule). Prior to the adoption of the RACT II rule, Pennsylvania relied on the NOX and VOC control measures in 25 Pa. Code 129.92-95, Stationary Sources of NOX and VOCs, (the RACT I rule) to meet RACT for non-CTG major VOC sources and major NOX sources. The requirements of the RACT I rule remain as previously approved in Pennsylvania's SIP and continue to be implemented as RACT.¹ On September 26, 2017, PADEP submitted a letter, dated September 22, 2017, which committed to address various deficiencies identified by EPA in PADEP's May 16, 2016 “presumptive” RACT II rule SIP revision.

¹ The RACT I Rule was approved by EPA into the Pennsylvania SIP on March 23, 1998. 63 FR 13789. Through this RACT II rule, certain source-specific RACT I requirements will be superseded by more stringent requirements. See Section II of the preamble to this final rule.

On May 9, 2019, EPA conditionally approved the RACT II rule based on the commitments PADEP made in its September 22, 2017 letter.² 84 FR 20274. In EPA's final conditional approval, EPA noted that PADEP would be required to submit, for EPA's approval, SIP revisions to address any facility-wide or system-wide NOX emissions averaging plans approved under 25 Pa. Code 129.98 and any case-by-case RACT determinations under 25 Pa. Code 129.99. PADEP committed to submitting these additional SIP revisions within 12 months of EPA's final conditional approval (i.e., by May 9, 2020). Through multiple submissions between 2017 and 2020, PADEP has submitted to EPA for approval various SIP submissions to implement its RACT II case-by-case determinations and alternative NOX emissions limits. This rule is based on EPA's review of one of these SIP revisions.

² On August 27, 2020, the Third Circuit Court of Appeals issued a decision vacating EPA's approval of three provisions of Pennsylvania's presumptive RACT II rule applicable to certain coal-fired power plants. Sierra Club v. EPA, 972 F.3d 290 (3d Cir. 2020). None of the sources in this final rule are subject to the presumptive RACT II provisions at issue in that Sierra Club decision.

II. Summary of SIP Revision and EPA Analysis

A. Summary of SIP Revision

To satisfy a requirement from EPA's May 9, 2019 conditional approval, PADEP submitted to EPA SIP revisions addressing alternative NOX emissions limits and/or case-by-case RACT requirements for major sources in Pennsylvania subject to 25 Pa. Code 129.98 or 129.99. Among the Pennsylvania RACT SIP revisions submitted by PADEP were case-by-case RACT determinations and alternative NOX emissions limits for the existing emissions units at each of the major sources of NOX and/or VOC that required a source-specific RACT determination or alternative NOX emissions limits for major sources seeking such limits.

In PADEP's case-by-case RACT determinations, an evaluation was completed to determine if previously SIP-approved, case-by-case RACT emissions limits or operational controls (herein referred to as RACT I and contained in RACT I permits) were more stringent than the new RACT II presumptive or case-by-case requirements. If more stringent, the RACT I requirements will continue to apply to the applicable source. If the new case-by-case RACT II requirements are more stringent than the RACT I requirements, then the RACT II requirements will supersede the prior RACT I requirements.³

³ While the prior SIP-approved RACT I permit will remain part of the SIP, this RACT II rule will incorporate by reference the RACT II requirements through the RACT II permit and clarify the ongoing applicability of specific conditions in the RACT I permit.

In PADEP's RACT determinations involving NOX averaging, an evaluation was completed to determine whether the aggregate NOX emissions emitted by the air contamination sources included in the facility-wide or system-wide NOX emissions averaging plan using a 30-day rolling average are greater than the NOX emissions that would be emitted by the group of included sources if each source complied with the applicable presumptive limitation in 25 Pa. Code 129.97 on a source-specific basis.

Here, EPA is approving SIP revisions pertaining to case-by-case RACT requirements and/or alternative NOX emissions limits for sources at 24 major NOX and/or VOC emitting facilities in Pennsylvania, as summarized in Table 1 in this document.

Table 1—Twenty-Four Major NOX and/or VOC Sources in Pennsylvania Subject to Case-by-Case Ract II Determinations Under the 1997 and 2008 8-Hour Ozone NAAQS
Major source (county) | 1-Hour ozone RACT source? (RACT I) | Major source pollutant (NOX and/or VOC) | RACT II permit (effective date)
Anvil International, LLC (formerly Grinnell Corporation) (Lancaster) | Yes | VOC | 36-05019 (2/1/2019).
ArcelorMittal Plate LLC Conshohocken Plant (formerly Bethlehem Lukens Plate) (Montgomery) | Yes | NOX and VOC | 46-00011 (1/26/2018).
Braskem America Inc. Marcus Hook (formerly Epsilon Products Co.—Marcus Hook) (Delaware) | Yes | VOC | 23-00012 (3/2/2020).
Buck Co Inc. Quarryville (formerly Buck Company Inc) (Lancaster) | Yes | VOC | 36-05053 (4/1/2020).
Calumet Karns City Refining LLC (formerly Penreco—Karns City) (Butler) | Yes | VOC | 10-027H (11/29/2018).
Clarion Bathware Marble (Clarion) | No | VOC | 16-00133 (12/19/2020).
Domtar Paper Company Johnsonburg Mill (formerly Willamette Industries, Johnsonburgh Mill) (Elk) | Yes | NOX and VOC | 24-00009 (2/25/2020).
Exelon Generation Company LLC Croydon Generating Station (formerly PECO Energy Co.—Croydon Generating Station) (Bucks) | Yes | NOX | 09-00016 (4/11/2018).
Georgia-Pacific Panel Products LLC Mt. Jewell MDF Plant (McKean) | Yes | NOX and VOC | 42-158R (1/2/2019).
GE Transportation Grove City Engine (formerly GE Transportation Systems) (Mercer) | Yes | NOX and VOC | 43-00196 (11/7/2019).
GrafTech USA LLC St Marys (formerly The Carbide/Graphite Group, Inc) (Elk) | Yes | VOC | 24-00012 (5/1/2019).
Haysite Reinforced Plastics LLC Erie (Erie) | No | VOC | 25-00783 (7/24/2019).
INMETCO Ellwood City (formerly The International Metals Reclamation Co) (Lawrence) | Yes | NOX and VOC | 37-00243 (12/6/2019).
International Waxes Inc Farmers Valley (formerly Petrowax Refining) (McKean) | Yes | NOX and VOC | 42-00011 (2/21/2020).
Jeld Wen Fiber Division PA (Bradford) | Yes | NOX and VOC | 08-00003 (9/21/2018).
Mars Wrigley Confectionery US LLC Elizabethtown (Lancaster) | Yes | VOC | 36-05142 (7/18/2019).
Molded Fiber Glass Company Union City (formerly Molded Fiber Glass) (Erie) | Yes | VOC | 25-00035 (2/5/2020).
Monroe Energy LLC Trainer (formerly Conoco Phillips Company) (Delaware) | Yes | NOX and VOC | 23-00003 (6/5/2017).
Nova Chemicals Company Beaver (formerly Nova Chemicals, Inc.) (Beaver) | Yes | VOC | 04-00033 (4/2/2020).
Sasol Chemicals USA LLC (formerly Merisol Antioxidants LLC) (Venango) | Yes | VOC | 61-00011 (2/16/2020).
Silberline Manufacturing Company Lincoln Drive Plant (formerly Silberline Manufacturing Co) (Schuylkill) | Yes | VOC | 54-00041 (3/16/2020).
Superior Tube Company Lower Providence (formerly Superior Tube Company) (Montgomery) | Yes | VOC | 46-00020 (2/5/2020).
Victaulic Company Alburtis Facility (Lehigh) | Unknown * | VOC | 39-00069 (10/24/2017).
Victaulic Forks Facility (Northampton) | Unknown ** | VOC | 48-0009 (10/24/2017).
* PADEP records indicate that Victaulic Company Alburtis Facility may have been subject to RACT I requirements because PADEP technical review memos and operating permits issued to the facility in the past reference RACT I requirements. However, in reviewing the facility's files, PADEP could not produce a RACT I permit nor any files specific to the issuance of RACT I. Furthermore, RACT I requirements were never incorporated into the Pennsylvania SIP for Victaulic Alburtis. See PADEP comment and response document dated January 2020.
** PADEP records indicate that Victaulic Forks Facility may have been subject to RACT I requirements because PADEP technical review memos and operating permits issued to the facility in the past reference RACT I requirements. However, in reviewing the facility's files, PADEP could not produce a RACT I permit nor any files specific to the issuance of RACT I. Furthermore, RACT I requirements were never incorporated into the Pennsylvania SIP for Victaulic Forks. See PADEP comment and response document dated January 2020.

The case-by-case RACT determinations submitted by PADEP consist of an evaluation of all reasonably available controls at the time of evaluation for each affected emissions unit, resulting in a PADEP determination of what specific emissions limit or control measures satisfy RACT for that particular unit. The adoption of new, additional, or revised emissions limits or control measures to existing SIP-approved RACT I requirements were specified as requirements in new or revised federally enforceable permits (hereafter RACT II permits) issued by PADEP to the source. Similarly, PADEP's determinations of alternative NOX emissions limits are included in RACT II permits. These RACT II permits have been submitted as part of the Pennsylvania RACT SIP revisions for EPA's approval in the Pennsylvania SIP under 40 CFR 52.2020(d)(1). The RACT II permits submitted by PADEP are listed in the last column of Table 1 of this preamble, along with the permit effective date, and are part of the docket for this rule, which is available online at https://www.regulations.gov, Docket No. EPA-R03-OAR-2021-0380.⁴ EPA is incorporating by reference in the Pennsylvania SIP, via the RACT II permits, source-specific RACT emissions limits and control measures and/or alternative NOX emissions limits under the 1997 and 2008 8-hour ozone NAAQS for certain major sources of NOX and VOC emissions.

⁴ The RACT II permits included in the docket for this rule are redacted versions of the facilities' federally enforceable permits. They reflect the specific RACT requirements being approved into the Pennsylvania SIP via this final action.

B. EPA's Final Action

PADEP's SIP revisions incorporate its determinations of source-specific RACT II controls for individual emission units at major sources of NOX and/or VOC in Pennsylvania, where those units are not covered by or cannot meet Pennsylvania's presumptive RACT regulation or where included in a NOX emissions averaging plan. After thorough review and evaluation of the information provided by PADEP in its SIP revision submittals for sources at 24 major NOX and/or VOC emitting facilities in Pennsylvania, EPA found that: (1) PADEP's case-by-case RACT determinations and conclusions establish limits and/or controls on individual sources that are reasonable and appropriately considered technically and economically feasible controls; (2) PADEP's determinations on alternative NOX emissions limits demonstrate that emissions under the averaging plan are equivalent to emissions if the individual sources were operating in accordance with the applicable presumptive limit; and (3) PADEP's determinations are consistent with the CAA, EPA regulations, and applicable EPA guidance.

PADEP, in its RACT II determinations, considered the prior source-specific RACT I requirements and, where more stringent, retained those RACT I requirements as part of its new RACT determinations. In the NPRM, EPA proposed to find that all the proposed revisions to previously SIP-approved RACT I requirements would result in equivalent or additional reductions of NOX and/or VOC emissions. The proposed revisions should not interfere with any applicable requirements concerning attainment of the NAAQS, reasonable further progress, or other applicable requirements under section 110(l) of the CAA.

Other specific requirements of the 1997 and 2008 8-hour ozone NAAQS case-by-case RACT determinations and alternative NOX emissions limits and the rationale for EPA's proposed action are explained more thoroughly in the NPRM, and its associated technical support document (TSD), and will not be restated here.

III. Public Comments and EPA Responses

EPA received comments from three commenters on the August 2, 2021 NPRM. 86 FR 41426. A summary of the comments and EPA's responses are discussed in this section. A copy of the comments can be found in the docket for this rule action.

Comment 1: One commenter notes that where PADEP proposed annual limits as RACT, EPA has proposed approval of these limits as SIP strengthening measures rather than RACT provisions. The commenter asserts that if EPA cannot approve the provisions as RACT due to EPA's policy of not approving limits with averaging times longer than 30 days, the annual limit determinations must be disapproved and remitted back to the state or EPA must explain how this long-term limit is acceptable.

Response 1: While the commenter does not specify a particular EPA policy, EPA agrees that its existing guidance does highlight the need for emission controls that are reasonably consistent with protecting a short-term NAAQS such as ozone. In those cases where an emission limit for a RACT control can be quantified, EPA guidance states that averaging periods for such limits should be as short as practicable and in no case longer than 30 days.⁵

⁵ See the January 20, 1984 EPA guidance memorandum titled “Averaging Times for Compliance with VOC Emission Limits—SIP Revision Policy.”

Since the 1970's, EPA has consistently defined RACT as the lowest emission limit that a particular source is capable of meeting by the application of the control technology that is reasonably available considering technological and economic feasibility. The establishment of case-by-case RACT requirements to reduce VOC and/or NOX emissions considers not only numeric emission limits, but also design and equipment specifications, operational and throughput constraints and work practice standards.

In the SIP revisions in this final rule action, PADEP has followed its SIP-approved RACT process and evaluated the technical and economic feasibility of control strategies for various sources that required source-specific RACT requirements. While the commenter has not identified any specific objectionable source or annual limit, PADEP's CbC determinations for sources at the 24 facilities at issue in this rule run the gamut of short-term emission limits, operational and throughput constraints, and work practice standards. Sometimes, the CbC determination is the retention of the prior RACT requirements. The CbC determinations also impose monitoring and recordkeeping requirements to ensure enforceability. In addition to these source-specific RACT requirements, PADEP has, for certain sources, added an annual limit to its CbC determination. These annual limits derive from either existing permit limits previously established under another regulatory authority or operating conditions utilized in conducting the economic feasibility portion of the RACT analysis. The annual limits help to ensure that the SIP requires the conditions under which PADEP analyzed RACT feasibility. PADEP included those annual limits in its SIP submittal to us, and EPA is incorporating those annual emission limits into the SIP not as RACT control limits but for the purpose of SIP strengthening.⁶

⁶ See also EPA's October 16, 2020 approval of other PADEP CbC SIP revisions for a discussion of SIP strengthening provisions. 85 FR 65706, 65709.

Courts have recognized EPA's ability to approve such SIP strengthening measures. In Ass'n of Irritated Residents v. EPA, the court noted that the CAA generally provides states with the responsibility to meet air quality standards and to adopt emission limits, No. 19-71223 (9th Cir. August 26, 2021). See also 42 U.S.C. 7407(a), 7416. The court also reasoned that the CAA does not prohibit a state from establishing an emission limit so long as it is not less stringent than limits already in the SIP and is enforceable. Id. section 7416. The annual emissions limits established by PADEP here meet both criteria. As described above, the annual limits are an additional requirement imposed by PADEP to supplement its CbC RACT determinations. They are not less stringent and are enforceable. For these reasons, we consider the annual limits to be separate from RACT and will approve them into the SIP as strengthening measures.

Comment 2: The commenter claims that EPA is required to disapprove the RACT permit limits for ArcelorMittal Plate LLC's Conshohocken Plant (ArcelorMittal Conshohocken) because “the emission limits are not sufficient enough to meet RACT requirements.” The commenter lists the following sources as having only ton per year limits or limits calculated on a rolling 12-month average or sum: Drever Furnace, Quench Furnace, Rose Annealing Furnace, Slab Heating Furnaces 1 and 2, and Temper Furnace. The commenter cites several documents, including EPA's own rulemaking actions and guidance documents, that point to a 30-day averaging time for NOX RACT being appropriate for a short-term NAAQS such as the 8-hour ozone NAAQS as support for disapproving the annual limits and the 12-month averaging periods in the ArcelorMittal Conshohocken RACT II permit.

In a second, yet related comment, the same commenter further claims that EPA cannot approve the 12-month averaging emission limits for sources at ArcelorMittal Conshohocken as “SIP strengthening” measures. The commenter notes that in EPA's technical support document, it has identified these 12-month averaging limits as PADEP RACT limits and claims that EPA cannot now avoid disapproving these allegedly inadequate annual limits by calling them SIP strengthening measures. Additionally, the commenter claims that “it is possible to place shorter term limits, such as 30-day rolling averages” on the sources at ArcelorMittal Conshohocken.

Response 2: The two comments received regarding EPA's proposed approval of the annual limits in PADEP's SIP revision for sources at ArcelorMittal Conshohocken's facility specifically refer to the annual NOX emission limits included by PADEP in its CbC determinations for the five sources listed in the above comment that EPA is now approving and incorporating into the Pennsylvania SIP as “SIP strengthening” measures. For context, the NOX emission limits being incorporated as SIP strengthening measures for four of the five sources (Quench Furnace, Rose Annealing Furnace, Slab Heating Furnaces 1 and 2, and Temper Furnace) are existing NOX emission limits, which were previously incorporated into the Pennsylvania SIP for this facility. The annual NOX emission limit being incorporated with this rule action as a SIP strengthening measure for the fifth source, the Drever Furnace, is an existing permit limitation, which is not currently incorporated into the Pennsylvania SIP.

As required under its SIP-approved RACT CbC process, PADEP conducted technical and, if applicable, economic feasibility analyses for all five sources at ArcelorMittal Conshohocken pursuant to 25 Pa. Code 129.99, which in turn references the process outlined in 25 Pa. Code 129.92. In all five instances, no new controls were determined to be technically or economically feasible for the sources. For all five sources, the RACT II determinations EPA is approving include a fuel limitation (in thousand cubic feet per hour (Mcf/hr) calculated as a 12-month rolling sum); monthly fuel recordkeeping requirements; monthly and 12-month rolling sum NOX emissions calculations (using a designated emission factor in lb/Mcf fuel used); and a requirement to maintain and operate the source in accordance with manufacturer's specifications and in accordance with good air pollution practices. In addition, PADEP also seeks to include in the SIP annual NOX emission limits.⁷

⁷ See PADEP Technical Review Memos, dated October 27, 2016 and August 8, 2017 [revised January 18, 2018].

As discussed more fully in response to Comment 1, above of this preamble, states may propose additional emission limits to be included within its SIP, and EPA may approve such limits for a SIP so long as they are no less stringent. EPA views these as SIP strengthening measures. They help to ensure that the SIP requires the conditions under which PADEP analyzed RACT feasibility. The annual limits PADEP included for the five sources at ArcelorMittal Conshohocken derive from existing permit limits. Because these limits are being approved as SIP strengthening measures, rather than RACT limits, the rulemaking actions and guidance documents that commenter points to are irrelevant here.

The commenter also makes a generalized claim that it is possible to limit the subject sources to a term shorter than 12-month averages. While the commenter's claim that it is possible to have shorter term limits may be correct, a shorter-term limit is not required. PADEP chose to utilize existing annual limits established under another regulatory authority to add further limits to its RACT determinations. As discussed above, the RACT II determinations for the sources at the facility include fuel limitations, monthly recordkeeping requirements, and a requirement to maintain and operate in accordance with manufacturer's specifications.

PADEP included those annual limits in its SIP submittal to us, and EPA is incorporating those annual emission limits into the SIP not as RACT control limits but for the purpose of SIP strengthening. As described above, the annual limits are an additional requirement imposed by PADEP to supplement its CbC RACT determinations. They are not less stringent and are enforceable. For these reasons, we consider the annual limits to be separate from RACT and will approve them into the SIP as strengthening measures.

Comment 3: One commenter requested disapproval of the Exelon Generation Company, LLC Croydon Generating Station RACT determination. The commenter asserts that water injection and selective catalytic reduction (SCR) for the sources at this facility should have been found economically feasible and should have been considered when evaluating PADEP's RACT submittal. Further, commenter supports this argument by noting that the neighboring states of New Jersey, New York, and Maryland have determined these controls feasible at similar cost effectiveness values.

Response 3: For sources at this facility, water injection and SCR were found to have, respectively, NOX removal costs of $5,696 and $4,423 per ton of NOX controlled. PADEP utilizes a cost effectiveness threshold of $3,500 per ton of NOX controlled. Therefore, PADEP determined that neither technology was cost effective and, therefore, both were eliminated in the analysis as economically feasible controls.

While other states may consider the cost effectiveness values for these identified controls reasonable, each state has discretion to determine what costs are considered reasonable when establishing RACT for sources located within their jurisdictions and must make and defend their determination on how to weigh these values in establishing RACT. In its RACT II rule development, Pennsylvania also reviewed examples of benchmarks used by other states: Wisconsin, $2,500 per ton NOX; Illinois, $2,500-$3,000 per ton NOX; Maryland, $3,500-$5,000 per ton NOX; Ohio, $5,000 per ton NOX; and New York, $5,000-$5,500 per ton NOX.⁸

⁸ PADEP Responses to Frequently Asked Questions, Final Rulemaking RACT Requirements for Major Sources of NOX and VOCs. October 20, 2016.

In its conditional approval of Pennsylvania's overall RACT II program, EPA found that PADEP's cost effectiveness thresholds are reasonable and reflect control levels achieved by the application and consideration of available control technologies, after considering both the economic and technological circumstances of Pennsylvania's own sources. See 84 FR 20274, 20286 (May 9, 2019).⁹ For these reasons EPA is finalizing the RACT determinations for the Exelon Generation Company, LLC Croydon Generating Station.

⁹ See also EPA's October 16, 2020 approval of other PADEP CbC SIP revisions for a discussion of PADEP's cost effectiveness thresholds. 85 FR 65706, 65711.

IV. Final Action

EPA is approving case-by-case RACT determinations and/or alternative NOX emissions limits for 24 sources in Pennsylvania, as required to meet obligations pursuant to the 1997 and 2008 8-hour ozone NAAQS, as revisions to the Pennsylvania SIP.

V. Incorporation by Reference

In this document, EPA is finalizing regulatory text that includes incorporation by reference. In accordance with requirements of 1 CFR 51.5, EPA is finalizing the incorporation by reference of source-specific RACT determinations and alternative NOX emissions limits under the 1997 and 2008 8-hour ozone NAAQS for certain major sources of VOC and NOX in Pennsylvania. EPA has made, and will continue to make, these materials generally available through https://www.regulations.gov and at the EPA Region III Office (please contact the person identified in the FOR FURTHER INFORMATION CONTACT section of this preamble for more information). Therefore, these materials have been approved by EPA for inclusion in the SIP, have been incorporated by reference by EPA into that plan, are fully federally enforceable under sections 110 and 113 of the CAA as of the effective date of the final rule of EPA's approval, and will be incorporated by reference in the next update to the SIP compilation.¹⁰

¹⁰ 62 FR 27968 (May 22, 1997).

VI. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804, however, exempts from section 801 the following types of rules: Rules of particular applicability; rules relating to agency management or personnel; and rules of agency organization, procedure, or practice that do not substantially affect the rights or obligations of non-agency parties. 5 U.S.C. 804(3). Because this is a rule of particular applicability, EPA is not required to submit a rule report regarding this action under section 801.

C. Petitions for Judicial Review

Under section 307(b)(1) of the CAA, petitions for judicial review of this action must be filed in the United States Court of Appeals for the appropriate circuit by March 25, 2022. Filing a petition for reconsideration by the Administrator of this final rule does not affect the finality of this action for the purposes of judicial review nor does it extend the time within which a petition for judicial review may be filed and shall not postpone the effectiveness of such rule or action. This action approving Pennsylvania's NOX and VOC RACT requirements for 24 facilities for the 1997 and 2008 8-hour ozone NAAQS may not be challenged later in proceedings to enforce its requirements. (See section 307(b)(2).)

List of Subjects in 40 CFR Part 52

Environmental protection, Air pollution control, Incorporation by reference, Nitrogen dioxide, Ozone, Reporting and recordkeeping requirements, Volatile organic compounds.

Dated: December 8, 2021.
Diana Esher,
Acting Regional Administrator, Region III.

For the reasons set out in the preamble, 40 CFR part 52 is amended as follows:

PART 52—APPROVAL AND PROMULGATION OF IMPLEMENTATION PLANS

1. The authority citation for part 52 continues to read as follows:

Authority: 42 U.S.C. 7401 et seq.

Subpart NN—Pennsylvania

2. In § 52.2020, the table in paragraph (d)(1) is amended by:

a. Revising the entries “Superior Tube Company”; “PECO Energy Co.—Croydon Generating Station”; “Epsilon Products Co.—Marcus Hook”; “Silberline Manufacturing Co”; “Nova Chemicals, Inc. (formerly Arco Chemical Co.—Beaver Valley)”; “Penreco—Karns City”; “Bethlehem Lukens Plate”; “GE Transportation Systems”; “Grinnell Corporation”; “Buck Company Inc”; “Petrowax Refining”; “Molded Fiber Glass”; “The International Metals Reclamation Co”; “Conoco Phillips Company”; “Willamette Industries, Johnsonburgh Mill”; “Merisol Antioxidants LLC”; and “The Carbide/Graphite Group, Inc”; and

b. Adding entries at the end of the table for “Anvil International, LLC (formerly referenced as Grinnell Corporation)”; “ArcelorMittal Plate LLC Conshohocken Plant (formerly referenced as Bethlehem Lukens Plate)”; “Braskem America Inc. Marcus Hook (formerly referenced as Epsilon Products Co.—Marcus Hook)”; “Buck Co Inc. Quarryville (formerly referenced as Buck Company Inc)”; “Calumet Karns City Refining LLC (formerly referenced as Penreco—Karns City)”; “Clarion Bathware Marble”; “Domtar Paper Company Johnsonburg Mill (formerly referenced as Willamette Industries, Johnsonburgh Mill)”; “Exelon Generation Company LLC Croydon Generating Station (formerly referenced as PECO Energy Co.—Croydon Generating Station)”; “Georgia-Pacific Panel Products LLC Mt. Jewell MDF Plant”; “GE Transportation Grove City Engine (formerly referenced as GE Transportation Systems)”; “GrafTech USA LLC St Marys (formerly referenced as The Carbide/Graphite Group, Inc)”; “Haysite Reinforced Plastics LLC Erie”; “INMETCO Ellwood City (formerly referenced as The International Metals Reclamation Co)”; “International Waxes Inc Farmers Valley (formerly referenced as Petrowax Refining”; “Jeld Wen Fiber Division PA”; “Mars Wrigley Confectionery US LLC Elizabethtown”; “Molded Fiber Glass Company Union City (formerly referenced as Molded Fiber Glass)”; “Monroe Energy LLC Trainer (formerly referenced as Conoco Phillips Company)”; “Nova Chemicals Company Beaver (formerly referenced as Nova Chemicals, Inc.)”; “Sasol Chemicals USA LLC (formerly referenced as Merisol Antioxidants LLC)”; “Silberline Manufacturing Company Lincoln Drive Plant (formerly referenced as Silberline Manufacturing Co)”; “Superior Tube Company Lower Providence (formerly referenced as Superior Tube Company)”; “Victaulic Company Alburtis Facility”; and “Victaulic Forks Facility”.

The revisions and additions read as follows:

§ 52.2020 Identification of plan.

* * * * *

(d) * * *

(1) * * *

Name of source | Permit No. | County | State effective date | EPA approval date | Additional explanations/§§ 52.2063 and 52.2064 citations ¹
* * * * * * *
Superior Tube Company | OP-46-0020 | Montgomery | 4/17/98 | 11/06/98, 63 FR 59884 | See also 52.2064(g)(22).
* * * * * * *
PECO Energy Co.—Croydon Generating Station | OP-09-0016A | Bucks | 12/20/96 | 12/15/00, 65 FR 78418 | See also 52.2064(g)(8).
* * * * * * *
Epsilon Products Co.—Marcus Hook | OP-23-0012 | Delaware | 2/15/96 | 12/15/00, 65 FR 78418 | See also 52.2064(g)(3).
* * * * * * *
Silberline Manufacturing Co | OP-54-0041 | Schuylkill | 4/19/99 | 12/15/00, 65 FR 78418 | See also 52.2064(g)(21).
* * * * * * *
Nova Chemicals, Inc. (formerly Arco Chemical Co.—Beaver Valley) | (OP)04-000-033 | Beaver | 4/16/99 1/24/01 | 10/17/01, 66 FR 52705 | See also 52.2064(g)(19).
* * * * * * *
Penreco—Karns City | OP-10-0027 | Butler | 5/31/95 | 10/12/01, 66 FR 52044 | See also 52.2064(g)(5).
* * * * * * *
Bethlehem Lukens Plate | P-46-0011 | Montgomery | 12/11/98 | 10/30/01, 66 FR 54691 | See also 52.2064(g)(2).
* * * * * * *
GE Transportation Systems | OP-43-196 | Mercer | 5/16/01 | 3/31/05, 70 FR 16416 | See also 52.2064(g)(10).
* * * * * * *
Grinnell Corporation | 36-2019 | Lancaster | 6/30/95 | 3/31/05, 70 FR 16420 | See also 52.2064(g)(1).
Buck Company Inc | 36-2035 | Lancaster | 8/1/95 | 3/31/05, 70 FR 16420 | See also 52.2064(g)(4).
* * * * * * *
Petrowax Refining | OP-42-110 | McKean | 3/4/96, 5/31/96 | 3/31/05, 70 FR 16423 | See also 52.2064(g)(14).
* * * * * * *
Molded Fiber Glass | OP-25-035 | Erie | 7/30/99 | 11/1/05, 70 FR 65842 | See also 52.2064(g)(17).
* * * * * * *
The International Metals Reclamation Co | OP-37-243 | Lawrence | 8/9/00 | 3/31/06, 71 FR 16235 | See also 52.2064(g)(13).
* * * * * * *
Conoco Phillips Company | OP-23-0003 | Delaware | 4/29/04 | 6/13/06, 71 FR 34011 | See also 52.2064(g)(18).
* * * * * * *
Willamette Industries, Johnsonburgh Mill | OP-24-009 | Elk | 5/23/95 | 6/13/06, 71 FR 34011 | See also 52.2064(g)(7).
* * * * * * *
Merisol Antioxidants LLC | OP-61-00011 | Venango | 4/18/05 | 6/14/06, 71 FR 34259 | See also 52.2064(g)(20).
* * * * * * *
The Carbide/Graphite Group, Inc | OP-24-012 | Elk | 5/12/95 | 7/11/06, 71 FR 38993 | See also 52.2064(g)(11).
* * * * * * *
Anvil International, LLC (formerly referenced as Grinnell Corporation) | 36-05019 | Lancaster | 2/1/19 | 1/24/22, [insert Federal Register citation] | 52.2064(g)(1).
ArcelorMittal Plate LLC Conshohocken Plant (formerly referenced as Bethlehem Lukens Plate) | 46-00011 | Montgomery | 1/26/18 | 1/24/22, [insert Federal Register citation] | 52.2064(g)(2).
Braskem America Inc. Marcus Hook (formerly referenced as Epsilon Products Co.—Marcus Hook) | 23-00012 | Delaware | 3/2/20 | 1/24/22, [insert Federal Register citation] | 52.2064(g)(3).
Buck Co Inc. Quarryville (formerly referenced as Buck Company Inc) | 36-05053 | Lancaster | 4/1/2020 | 1/24/22, [insert Federal Register citation] | 52.2064(g)(4).
Calumet Karns City Refining LLC (formerly referenced as Penreco—Karns City) | 10-027H | Butler | 11/29/18 | 1/24/22, [insert Federal Register citation] | 52.2064(g)(5).
Clarion Bathware Marble | 16-00133 | Clarion | 12/19/20 | 1/24/22, [insert Federal Register citation] | 52.2064(g)(6).
Domtar Paper Company Johnsonburg Mill (formerly referenced as Willamette Industries, Johnsonburgh Mill) | 24-00009 | Elk | 2/25/2020 | 1/24/22, [insert Federal Register citation] | 52.2064(g)(7).
Exelon Generation Company LLC Croydon Generating Station (formerly referenced as PECO Energy Co.—Croydon Generating Station) | 09-00016 | Bucks | 4/11/18 | 1/24/22, [insert Federal Register citation] | 52.2064(g)(8).
Georgia-Pacific Panel Products LLC Mt. Jewell MDF Plant | 42-158R | McKean | 1/2/19 | 1/24/22, [insert Federal Register citation] | 52.2064(g)(9).
GE Transportation Grove City Engine (formerly referenced as GE Transportation Systems) | 43-00196 | Mercer | 11/7/19 | 1/24/22, [insert Federal Register citation] | 52.2064(g)(10).
GrafTech USA LLC St Marys (formerly referenced as The Carbide/Graphite Group, Inc) | 43-00196 | Elk | 5/1/19 | 1/24/22, [insert Federal Register citation] | 52.2064(g)(11).
Haysite Reinforced Plastics LLC Erie | 25-00783 | Erie | 7/24/19 | 1/24/22, [insert Federal Register citation] | 52.2064(g)(12).
INMETCO Ellwood City (formerly referenced as The International Metals Reclamation Co) | 37-00243 | Lawrence | 12/6/2019 | 1/24/22, [insert Federal Register citation] | 52.2064(g)(13).
International Waxes Inc Farmers Valley (formerly referenced as Petrowax Refining) | 42-00011 | McKean | 2/21/20 | 1/24/22, [insert Federal Register citation] | 52.2064(g)(14).
Jeld Wen Fiber Division PA | 08-0003 | Bradford | 9/21/18 | 1/24/22, [insert Federal Register citation] | 52.2064(g)(15).
Mars Wrigley Confectionery US LLC Elizabethtown | 36-05142 | Lancaster | 7/18/19 | 1/24/22, [insert Federal Register citation] | 52.2064(g)(16).
Molded Fiber Glass Company Union City (formerly referenced as Molded Fiber Glass) | 25-00035 | Erie | 2/5/2020 | 1/24/22, [insert Federal Register citation] | 52.2064(g)(17).
Monroe Energy LLC Trainer (formerly referenced as Conoco Phillips Company) | 23-00003 | Delaware | 6/5/17 | 1/24/22, [insert Federal Register citation] | 52.2064(g)(18).
Nova Chemicals Company Beaver (formerly referenced as Nova Chemicals, Inc.) | 004-00033 | Beaver | 4/2/20 | 1/24/22, [insert Federal Register citation] | 52.2064(g)(19).
Sasol Chemicals USA LLC (formerly referenced as Merisol Antioxidants LLC) | 61-00011 | Venango | 2/16/20 | 1/24/22, [insert Federal Register citation] | 52.2064(g)(20).
Silberline Manufacturing Company Lincoln Drive Plant (formerly referenced as Silberline Manufacturing Co) | 54-00041 | Schuylkill | 3/16/20 | 1/24/22, [insert Federal Register citation] | 52.2064(g)(21).
Superior Tube Company Lower Providence (formerly referenced as Superior Tube Company) | 46-00020 | Montgomery | 2/5/20 | 1/24/22, [insert Federal Register citation] | 52.2064(g)(22).
Victaulic Company Alburtis Facility | 39-00069 | Lehigh | 10/24/17 | 1/24/22, [insert Federal Register citation] | 52.2064(g)(23).
Victaulic Forks Facility | 48-0009 | Northampton | 10/24/17 | 1/24/22, [insert Federal Register citation] | 52.2064(g)(24).
¹ The cross-references that are not § 52.2064 are to material that pre-date the notebook format. For more information, see § 52.2063.

* * * * *

3. Amend § 52.2064 by adding paragraph (g) to read as follows:

§ 52.2064 EPA-approved Source-Specific Reasonably Available Control Technology (RACT) for Volatile Organic Compounds (VOC) and Oxides of Nitrogen (NOX).

* * * * *

(g) Approval of source-specific RACT requirements for 1997 and 2008 8-hour ozone national ambient air quality standards for the facilities listed in this paragraph (g) are incorporated as specified. (Rulemaking Docket No. EPA-OAR-2021-0380.)

(1) Anvil International, LLC—Incorporating by reference Permit No. 36-05019, effective February 1, 2020, as redacted by Pennsylvania. All permit conditions in the prior RACT Permit No. 36-2019, effective June 30, 1995, remain as RACT requirements for Sources 501, 502, 503, and 196. See also § 52.2020(d)(1), for prior RACT approval.

(2) ArcelorMittal Plate LLC Conshohocken Plant—Incorporating by reference Permit No. 46-00011, effective January 26, 2018, as redacted by Pennsylvania. All permit conditions in the prior RACT Permit No. OP-46-0011, effective December 11, 1998, remain as RACT requirements except for Conditions 8 and 9, which are superseded by the new permit. See also § 52.2063(c)(185)(i)(B)(2), for prior RACT approval.

(3) Braskem America Inc. Marcus Hook—Incorporating by reference Permit No. 23-00012, effective March 2, 2020, as redacted by Pennsylvania. All permit conditions in the prior RACT Permit No. OP-23-0012, effective February 15, 1996, remain as RACT requirements. See also § 52.2063(c)(143)(i)(B)(25), for prior RACT approval.

(4) Buck Co Inc. Quarryville—Incorporating by reference Permit No. 36-05053, effective April 1, 2020, as redacted by Pennsylvania. All permit conditions in the prior RACT Permit No. 36-2035, effective August 1, 1995, remain as RACT requirements. See also § 52.2020(d)(1), for prior RACT approval.

(5) Calumet Karns City Refining LLC—Incorporating by reference Permit No. 10-027H, issued November 29, 2018, as redacted by Pennsylvania. All permit conditions in the prior RACT Permit No. 10-027, issued May 31, 1995 are superseded except for Condition No. 4 for Boiler No. 1, which remains as a RACT requirement. See also § 52.2063(c)(177)(i)(B)(1), for prior RACT approval.

(6) Clarion Bathware Marble—Incorporating by reference Permit No. 16-00133, effective February 19, 2020, as redacted by Pennsylvania.

(7) Domtar Paper Company Johnsonburg Mill—Incorporating by reference Permit No. 24-00009, effective February 25, 2020, as redacted by Pennsylvania. All permit conditions in the prior RACT Permit No. OP-24-009, effective May 23, 1995, remain as RACT requirements. See also § 52.2020(d)(1), for prior RACT approval.

(8) Exelon Generation Company, LLC Croydon Generating Station—Incorporating by reference Permit No. 09-00016, effective April 11, 2018, as redacted by Pennsylvania, in addition to the prior RACT Permit No. OP-09-0016A, issued December 20, 1996 which also remains as RACT requirements except for condition 9.A. See also § 52.2063(c)(143)(i)(B)(13), for prior RACT approval.

(9) Georgia-Pacific Panel Products LLC Mount Jewell MDF—Incorporating by reference Permit No. 42-158R, effective January 2, 2019, as redacted by Pennsylvania.

(10) GE Transportation Grove City Engine—Incorporating by reference Permit No. 43-00196, effective October 7, 2019, as redacted by Pennsylvania. All permit conditions in the prior RACT Permit No. OP-43-196, effective May 16, 2001, remain as RACT requirements except for Conditions 3 and 9. See also § 52.2020(d)(1), for prior RACT approval.

(11) GrafTech USA LLC St Marys- Incorporating by reference Permit No. 24-00012, effective May 1, 2019, as redacted by Pennsylvania. All permit conditions in the prior RACT Permit No. 24-012, effective May 12, 1995 remain as RACT requirements. See also § 52.2020(d)(1), for prior RACT approval.

(12) Haysite Reinforced Plastics LLC Erie- Incorporating by reference Permit No. 25-00783, effective July 24, 2019, as redacted by Pennsylvania.

(13) INMETCO Ellwood City—Incorporating by reference Permit No. 37-00243, effective December 6, 2019, as redacted by Pennsylvania, which supersedes the prior RACT I Permit No. OP-37-243, effective August 9, 2000, except for Condition 5 (but only to the extent Condition 5 incorporates the operation and maintenance requirements of Condition 6 of OP-37-243, effective September 1, 1995, for the furnaces), which remains as a RACT requirement. See also § 52.2020(d)(1), for prior RACT approval.

(14) International Waxes Inc Farmers Valley—Incorporating by reference Permit No.42-00011, effective February 21, 2020, as redacted by Pennsylvania, which supersedes the prior RACT Permit No. OP-42-110, effective March 4, 1996, except for Conditions 8 and 9, which remain as RACT requirements. See also § 52.2020(d)(1), for prior RACT approval.

(15) Jeld Wen Fiber Division PA—Incorporating by reference Permit No. 08-00003, effective September 21, 2018, as redacted by Pennsylvania.

(16) Mars Wrigley Confectionery US LLC Elizabethtown—Incorporating by reference Permit No. 36-05142, effective July 18, 2019, as redacted by Pennsylvania.

(17) Molded Fiber Glass Co Union City—Incorporating by reference Permit No. 25-00035, effective February 5, 2020, as redacted by Pennsylvania. All permit conditions in the prior RACT Permit No. OP-25-035, effective July 30, 1999, remain as RACT requirements. See also § 52.2020(d)(1), for prior RACT approval.

(18) Monroe Energy LLC Trainer—Incorporating by reference Permit No. 23-00003, effective June 5, 2017, as redacted by Pennsylvania. All permit conditions in the prior RACT Permit No. 23-0003, effective April 29, 2004, remain as RACT requirements. See also § 52.2020(d)(1), for prior RACT approval.

(19) Nova Chemicals Company Beaver—Incorporating by reference Permit No. 04-00033, issued April 2, 2020, as redacted by PADEP, which supersedes prior RACT Permit No. 04-000333, issued April 16, 1999 and reissued January 24, 2001. See also § 52.2063(c)(173)(i)(B)(4), for prior RACT approval.

(20) Sasol Chemicals USA LLC—Incorporating by reference Permit No. 61-00011, effective February 16, 2020, as redacted by Pennsylvania. All permit conditions in the prior RACT Permit No. 61-011, effective April 18, 2005, remain as RACT requirements, except for the bypass limitation in Condition 12 (applicable to Source 107, 314/340 Distillation Columns), which is superseded by the new permit. See also § 52.2020(d)(1), for prior RACT approval.

(21) Silberline Manufacturing Company Lincoln Drive Plant- Incorporating by reference Permit No. 54-00041, effective March 16, 2020, as redacted by Pennsylvania. All permit conditions in the prior RACT Permit No. 54-0041, effective April 19, 1999, remain as RACT requirements. See also § 52.2063(c)(143)(i)(B)(44), for prior RACT approval.

(22) Superior Tube Company Lower Providence—Incorporating by reference Permit No. 46-00020, effective February 5, 2020, as redacted by Pennsylvania, which supersedes the prior RACT I Permit No OP-46-0020, effective April 17, 1998, except for the facility-wide NOX emissions limit found in Condition 4 and Conditions 5, 10, 11, 13, 14, and 15, which remain as RACT requirements. See also § 52.2063(c)(136)(i)(B)(13), for prior RACT approval.

(23) Victaulic Company Alburtis Facility—Incorporating by reference Permit No. 39-00069, effective October 24, 2017, as redacted by Pennsylvania.

(24) Victaulic Forks Facility—Incorporating by reference Permit No. 48-00009, effective October 24, 2017, as redacted by Pennsylvania.

[FR Doc. 2021-27231 Filed 1-21-22; 8:45 am]

BILLING CODE 6560-50-P